FEDERAL RESERVE SYSTEM

Change in Bank Control Notices; Acquisitions of Shares of Banks or Bank Holding Companies

The notificants listed below have applied under the Change in Bank Control Act (12 U.S.C. 1817(j)) and § 225.41 of the Board's Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than May 4, 2000.

A. Federal Reserve Bank of Minneapolis (JoAnne F. Lewellen, Assistant Vice President), 90 Hennepin Avenue, Minneapolis, Minnesota 55480-0291:

1. The Emison Investments Limited Partnership, Eden Prairie, Minnesota; to acquire voting shares of Community Bank Group, Inc., Eden Prairie, Minnesota; and thereby indirectly acquire voting shares of Community Bank Winsted, Winsted, Minnesota, and Community Bank Minnesota Valley, Jordan, Minnesota.

B. Federal Reserve Bank of Kansas City (D. Michael Manies, Assistant Vice President), 925 Grand Avenue, Kansas City, Missouri 64198-0001:

1. Randy Allan Deason, Chouteau, Oklahoma; to acquire voting shares of BOC Banshares, Inc., Chouteau, Oklahoma, and thereby indirectly acquire voting shares of Bank of Commerce, Chouteau, Oklahoma.

C. Federal Reserve Bank of Dallas (W. Arthur Tribble, Vice President), 2200 North Pearl Street, Dallas, Texas 75201-2272:

1. Robert B. Mathieu, Delhi, Louisiana; to acquire additional voting shares of Delhi Bancshares, Inc., Delhi, Louisiana, and thereby indirectly acquire additional voting shares of Guaranty Bank & Trust Company of Delhi, Delhi, Louisiana.

Board of Governors of the Federal Reserve System, April 14, 2000.
Jennifer J. Johnson,
Secretary of the Board.

[FR Doc. 00-9884 Filed 4-19-00; 8:45 am]

BILLING CODE 6210-01-P